DEPARTMENT OF TRANSPORTATION

National Highway Traffic Safety Administration

[Docket No. NHTSA-2016-0089]

Model Minimum Uniform Crash Criteria

AGENCY: National Highway Traffic Safety Administration (NHTSA), Department of Transportation (DOT).

ACTION: Notice and request for comments .

SUMMARY: The National Highway Traffic Safety Administration (NHTSA), in coordination with the Governors Highway Safety Association (GHSA), the Federal Highway Administration (FHWA), and the Federal Motor Carrier Safety Administration (FMCSA), is in the process of reviewing the Guidelines for the Model Minimum Uniform Crash Criteria (MMUCC) Fourth Edition, December 2012, and requests comments to determine appropriate improvements to address stakeholder concerns. The MMUCC provides States with a dataset for describing crashes of motor vehicles in transport that generates the information necessary to improve highway safety within each State and nationally. NHTSA and GHSA established an expert panel to review the proposed changes and comments received from Federal Register Notice FR Doc. 2016-09231. On July 27-28, 2016, the MMUCC expert panel met and decided on initial changes to MMUCC based on input from the subject matter experts in attendance and written comments submitted in response to a April 21, 2016 request for comments. The MMUCC panel will meet again on October 27-28, 2016, to continue deliberating changes to MMUCC and is seeking public input on additional changes. Crash data users may comment on the utility of the current MMUCC guidelines, the draft changes to MMUCC, and suggest additional changes for the next update to MMUCC. Based on the input received in response to this notice, NHTSA and GHSA anticipate issuing changes to the Guidelines in 2017.

DATES: Comments must be received on or before October 28, 2016.

ADDRESSES: You may submit comments identified by DOT Docket ID number NHTSA-2016-0089 or by any of the following methods:

• Federal eRulemaking Portal: Go to http://www.regulations.gov. Follow the online instructions for submitting comments.

• Mail: Docket Management Facility, M-30 U.S. Department of Transportation, West Building, Ground floor, Room W12-140, 1200 New Jersey Ave. SE., Washington, DC 20590.

• Hand Delivery or Courier: Docket Management Facility, M-30 U.S. Department of Transportation, West Building, Ground Floor, Room W12-140, 1200 New Jersey Ave. SE., Washington, DC 20590, between 9 a.m. and 5 p.m. Eastern time, Monday through Friday, except Federal holidays.

• Fax: 202-493-2251.

• Governors Highway Safety Association Web site: Go to www.ghsa.org. Follow the online instructions for submitting comments.

Regardless of how you submit your comments, you should identify the Docket number of this notice. Note that all comments received in response to this notice at www.regulations.gov or www.ghsa.org will be posted without change to http://www.regulations.gov, including any personal information provided. Please read the “Privacy Act” heading below.

Privacy Act: Anyone is able to search the electronic form of all comments received into any of our dockets by the name of the individual submitting the comment (or signing the comment, if submitted on behalf of an association, business, labor union, etc.). You may review DOT's complete Privacy Statement in the Federal Register published on April 11, 2000 (65 FR 19477-78) or you may visit http://docketsInfo.dot.gov.

Confidential Information: If you wish to submit any information under a claim of confidentiality, you should submit three copies of your complete submission, including the information you claim to be confidential business information, to the Chief Counsel, NHTSA, 1200 New Jersey Avenue SE., Washington, DC 20590-0001. In addition, you should submit two copies, from which you have deleted the claimed confidential business information, to Docket Management at the address given above under ADDRESSES. When you send a comment containing information claimed to be confidential business information, you should include a cover letter setting forth the information specified in our confidential business information regulation. (49 CFR part 512).

Docket: For access to the docket to read background documents or comments received, go to http://www.regulations.gov or the street address listed above. Follow the online instructions for accessing the dockets.

Docket: For access to the docket to read the proposed changes to MMUCC, background documents, or comments received, go to http://www.regulations.gov at any time or to West Building Ground Floor, Room W12-140, 1200 New Jersey Avenue SE., Washington, DC, between 9 a.m. and 5 p.m., Eastern Time, Monday through Friday, except Federal holidays.

FOR FURTHER INFORMATION CONTACT: For programmatic issues: John Siegler, Office of Traffic Records and Analysis, NSA-221, National Highway Traffic Safety Administration, 1200 New Jersey Avenue SE., Washington, DC 20590. Telephone (202) 366-1268.

SUPPLEMENTARY INFORMATION: The Model Minimum Uniform Crash Criteria (MMUCC) provides data elements for describing crashes of motor vehicles in transport that generates the information necessary to improve highway safety within each State and nationally. Statewide motor vehicle traffic crash data systems provide the basic information necessary for effective highway and traffic safety efforts at any level of government—local, State, or Federal. State crash data are used to perform problem identification, establish goals and performance measures, allocate resources, determine the progress of specific programs, and support the development and evaluation of highway and vehicle safety countermeasures. The use of State crash data can be hindered by the lack of uniformity between and within States.

MMUCC represents a voluntary and collaborative effort to generate uniform crash data that are accurate, reliable, and credible for data-driven highway safety decisions within a State, between States, and at the national level. MMUCC was originally developed in response to requests by States interested in improving and standardizing their State crash data. Lack of uniform reporting made the sharing and comparison of State crash data difficult. Different elements and definitions resulted in incomplete data and misleading results. MMUCC recommends voluntary implementation of a “minimum set” of standardized data elements to promote comparability of data within the highway safety community. It serves as a foundation for State crash data systems. The next planned update of the MMUCC Guideline is scheduled for 2017.

Implementation of MMUCC is an ongoing and collaborative effort. Changes to MMUCC approved during the first panel meeting on July 27-28, 2016, included creating new subsections for crashes involving (a) fatalities, (b) large vehicles/hazardous materials, and (c) non motorists; and modifications to existing crash, vehicle and person data elements. This second request for information will provide additional input to the MMUCC expert panel on a number of stakeholders' proposals including the addition of a new data element for “Motor Vehicle Automation Equipped and Use.” These topics will be discussed during the second meeting on October 27-28, 2016, after which, NHTSA, in collaboration with GHSA, FHWA, and FMCSA, will review and finalize the MMUCC 5th edition for publication in 2017. Additional information about the MMUCC update can be found on the Governor's Highway Safety Association Web site www.ghsa.org. Full text of the draft revised version of MMUCC can be viewed in the docket. The MMUCC 4th edition can be viewed on the National Highway Traffic Safety Administration's Web site at http://www-nrd.nhtsa.dot.gov/Pubs/811631.pdf.

Steven K. Smith,
Acting Associate Administrator for NHTSA's National Center for Statistics and Analysis.

[FR Doc. 2016-24288 Filed 10-6-16; 8:45 am]

BILLING CODE P